DEPARTMENT OF JUSTICE

Antitrust Division

Notice Pursuant to the National Cooperative Research and Production Act of 1993—Telemanagement Forum

Notice is hereby given that, on January 29, 2019, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Shelter, London, UNITED KINGDOM; Somos, East Brunswick, NJ; PCCW Solutions Limited, Kowloon, HONG KONG-CHINA; Thunderhead, London, UNITED KINGDOM; CA IT Management Solutions Spain S.L., Barcelona, SPAIN; Corporate Software, Casablanca, MOROCCO; Concentra Consulting Limited, London, UNITED KINGDOM; Sparx Services North America, New Richmond, WI; COGNITY S.A., Marousi, GREECE; Cortex, Brierley Hill, UNITED KINGDOM; Diksha Technologies Pvt Ltd, Sadashivanagar, INDIA; Isoton, Adelaide, AUSTRALIA; EC4U Expert Consulting AG, Karlsruhe, GERMANY; Intrasoft International SA Luxembourg, Luxembourg City, LUXEMBOURG; Blue Prism, London, UNITED KINGDOM; Zen internet Ltd, Rochdale, ENGLAND; LG Uplus Corp, Seoul, SOUTH KOREA; Fair Isaac Corporation, San Diego, CA; Xpertnest, Biggleswade, UNITED KINGDOM; OneWeb, London, UNITED KINGDOM; Clementvale, Dublin, IRELAND; SMATMASS Pty Ltd, Johannesburg, SOUTH AFRICA; Clarity Global Pty Ltd, North Sydney, AUSTRALIA; Balance ICT Limited, Farnborough, UNITED KINGDOM; Unlimit IoT Private Ltd., Mumbai, INDIA; AZR for Informatics & Media Solutions L.L.C., Tripoli, LIBYA; Centernode, Cork, IRELAND; Amborella, Paris, FRANCE; Jenny Huang Sole Trader, Lafayette, CA; Posts and Telecommunications Institute of Technology, Hanoi, VIETNAM; IDC, Framingham, MA; Pforzheim University, Pforzheim, GERMANY; Sasin Graduate Institute of Business Administration, Bangkok, THAILAND; Elaine Haher, TM Forum Distinguished Fellow, Piscataway, NJ; Robert Bratulic, Sole Trader, Toronto, CANADA; Asia Pacific College, Manila, PHILIPPINES; Axiros GmbH, Munich, GERMANY; Digital Cities Initiative, Stanford Global Projects Center, Stanford, CA; Town of Austin, Austin, CANADA; Tel Aviv University, Tel Aviv, ISRAEL; City of Saint-Quentin, Saint-Quentin, FRANCE; Nomensa, Bristol, UNITED KINGDOM; Polaris Technology, Amman, JORDAN; K C Armour & Co., Croydon, AUSTRALIA; Aesopia, Centurion, SOUTH AFRICA; Aarav Solutions, Bangalore, INDIA; Minim, Manchester, NH; Starnet Solutii SRL, Chisinau, MOLDOVA; NHB Management Services SARL, Temara, MOROCCO; Equatorial Telecom, São Luís, BRAZIL; Pinplay, Gangnam-gu, KOREA; Ontix, London, UNITED KINGDOM; Atonomi, Seattle, WA; Jabb Technical Solutions, LLC, Bayonne, NJ; Rain Networks, Bryanston, SOUTH AFRICA; NaviParking, Gliwice, POLAND; Emersion Software, Melbourne, AUSTRALIA; Juvo, San Francisco, CA; Fundação Para Inovações Tecnológicas—FITec, Recife, BRAZIL; Wind Tre S.P.A., Rome, ITALY; Z-Lift, Makati City, PHILIPPINES; Zat Consulting, Lima, PERU; Simple Consulting, Santiago, CHILE; AN10, Chevy Chase, MD; Makedonski Telekomunikacii, Skopje, MACEDONIA; T-Mobile Austria GmbH, Vienna, AUSTRIA; Hrvatski Telekom d.d., Zagreb, CROATIA; T-Mobile Czech & Slovak Telekom, a.s., Prague, CZECH REPUBLIC; Vodafone Turkey, Istanbul, TURKEY; T-Mobile Poland SA, Warsaw, POLAND; T-Systems International Services GmbH, Frankfurt, GERMANY; DIGIGLU Ltd., Hatfield, UNITED KINGDOM; PortaOne, Inc., Coquitlam, CANADA; Latro Services, Chantilly, VA; ATC IP LLC, Marlborough, MA; Synchronoss Technologies, Inc., Bridgewater, NJ; Accruent, LLC, Austin, TX; Swirlds, College Station, TX; Tawhiri Networks, Brewster, NY; PiA-Team Inc., Bellevue, WA; Emeldi Canada Ltd., Toronto, CANADA; University of Surrey, Guildford, UNITED KINGDOM; Greek Mobile Operators Association, Marousi, GREECE; University of Málaga, Málaga, SPAIN; The University of Tokyo, Bunkyo-ku, JAPAN; Telekinetics, London, UNITED KINGDOM; Mahindra Comviva, Sector 34, INDIA; Hyperoptic Ltd, London, UNITED KINGDOM; Skylogic S.p.A., Torino, ITALY; Crystal ASP Services Ltd, Dublin, IRELAND; Jamii Telecommunications Ltd, Nairobi, KENYA; iD Mobile, London, UNITED KINGDOM; Steward Bank, Harare, ZIMBABWE; Zambia Telecommunications Company, Lusaka, ZAMBIA; Splunk, North Sydney, AUSTRALIA; SSE Electricity Ltd, Reading, UNITED KINGDOM; ATM Mobilis, Algiers, ALGERIA; MTN Sudan, Khartoum, SUDAN; MTN South Sudan, Juba, SOUTH SUDAN; MTN Uganda, Kampala, UGANDA; MTN Guinea Bissau, Conakry, GUINEA BISSAU; MTN Côte d'Ivoire, Abidjan, IVORY COAST; MTN Cyprus, Nicosia, CYPRUS; MTN Liberia, Monrovia, LIBERIA; MTN Nigeria, Victoria Island, NIGERIA; MTN South Africa, Randburg, SOUTH AFRICA; MTN Cameroon, Douala, CAMEROON; MTN Benin, Cotonou, BENIN; Mascom Wireless (MTN Botswana), Gabarone, BOTSWANA; MTN Ghana, Accra, GHANA; MTN Yemen, Sana'a, YEMEN; MTN Congo, Brazzaville, CONGO; Orange Cameroon, Douala, CAMEROON; Claro Enterprise Solutions LLC, Miramar, FL; KCOM Group PLC, London, UNITED KINGDOM; Tigo Tanzania, Dar es Salaam, TANZANIA; Jaks Tech Solutions LLP, Madurai, INDIA; Nuviso Networks Pvt Ltd, Bengaluru, INDIA; BitX Limited, Georgetown, GUYANA; Zeetta Networks, Bristol, UNITED KINGDOM; Shakespeare Advisory Ltd, Foxrock, IRELAND; Smart City College of Beijing Union University, Beijing, PEOPLE'S REPUBLIC OF CHINA; Guangzhou Sunrise Technology Co., Ltd., Guangzhou, PEOPLE'S REPUBLIC OF CHINA; Space Star Technology Co., Ltd., Beijing, PEOPLE'S REPUBLIC OF CHINA; NTT COMWARE CORPORATION, Tokyo, JAPAN; Deploy Partners Pty Ltd, Newport, AUSTRALIA; A-OSS Consulting GmbH, Wein, AUSTRIA; PJSC Rostelecom, Moscow, RUSSIA; TV-7, Seversk, RUSSIA; JSC ALFASATCOM, Moscow, RUSSIA; Corporación Ecuatoriana para el Desarrollo de la Investigación y la Academia (CEDIA), Cuenca, ECUADOR; Icaro Tech, Campinas, BRAZIL; Internexa, S.A., Bogotá, COLOMBIA; SKY Brasil, São Paulo, BRAZIL; Everis Spain S.L.U., Madrid, SPAIN; and Verbio Inc, Palo Alto, CA, have been added as parties to this venture.

Also, the following members have changed their names: Dubai Roads & Transport Authority (RTA) to Roads and Transport Authority, Dubai, UNITED ARAB EMIRATES; T-Slovak Telekom, a.s., to T-Mobile Czech & Slovak Telekom, a.s., Prague, CZECH REPUBLIC; Starnet SRL to Starnet Solutii SRL, Chisinau, MOLDOVA; Jordan Telecom to Orange Jordan, Amaan, JORDAN; Inteligencija to Poslovna Inteligencija d.o.o., Zagreb, CROATIA; IKB Consulting to NHB Management Services SARL, Temara, MOROCCO; SalesAgility to Minim, Manchester, NJ; Jisc Collections and Janet Limited to Jisc Services Limited, Didcot, UNITED KINGDOM; WSO2.Telco to Apigate, Kuala Lumpur Sentral, MALAYSIA; ZTEsoft Technology Co., Ltd, to Whale Cloud Technology Co., Ltd, Nanjing, PEOPLE'S REPUBLIC OF CHINA; Croatian Telecom—HT to Hrvatski Telekom d.d., Zagreb, CROATIA; Netka System to Netka System Co., Ltd., Minburi Minburi Bangkok, THAILAND; SSE Energy Supply Ltd to SSE Electricity Ltd, Reading, UNITED KINGDOM; Intrasoft International SA to Intrasoft International SA Luxembourg, Luxembourg City, LUXEMBOURG; FICO United Kingdom to Fair Isaac Corporation, San Diego, CA; My Republic to MyRepublic Pte Ltd, Singapore, SINGAPORE; everis & NTT data to Everis Spain S.L.U., Madrid, SPAIN; Crystal ASP to Crystal ASP Services Ltd, Dublin, IRELAND; Botswana Fibre Networks (Pty) Ltd to Bofinet, Gaborone, BOTSWANA; AZR L.L.C. to AZR for Informatics & Media Solutions L.L.C., Tripoli, LIBYA; Icaro Technologies to Icaro Tech, Campinas, BRAZIL; Dave Calder to Vital Process Consulting, Pleasant Hill, CA; KBZ Gateway Company Limited to KBZ Gateway SI Company Limited, Yangon, MYANMAR; GEANT Ltd to GEANT Vereniging, Cambridge, UNITED KINGDOM; PETER-SERVICE to Nexign, St.Petersburg, RUSSIA; Unlimit IoT Pvt. Ltd. to Unlimit IoT Private Ltd., Mumbai, INDIA; American Tower to ATC IP LLC, Marlborough, MA; Thunderhead.com to Thunderhead, London, UNITED KINGDOM; CEDIA to Corporación Ecuatoriana para el Desarrollo de la Investigación y la Academia (CEDIA), Cuenca, ECUADOR; LG Uplus Corp. (LGU+) to LG Uplus Corp, Seoul, SOUTH KOREA; Synchronoss to Synchronoss Technologies, Inc., Bridgewater, NJ; Antarctic Palmtrees Limited to LABCITIES, Watford, UNITED KINGDOM; Master Merchant Systems to Maplewave, Dartmouth, CANADA; TEAM COTE D'AZUR (Nice) to Nice Cote d'Azur Metropolis, Nice, FRANCE; CA Technologies Spain to CA IT Management Solutions Spain S.L., Barcelona, SPAIN; MTN Sudan to MTN Liberia, Monrovia, LIBERIA; MTN SA (Pty) ltd. to MTN South Africa, Randburg, SOUTH AFRICA; and MobileAware, Inc. to AwareX, Boston, MA.

In addition, the following parties have withdrawn as parties to this venture: 100 Celsius AI, Frick, SWITZERLAND; Active Ticketing PLC, London, UNITED KINGDOM; AGGAROS, Barcelona, SPAIN; Agile Fractal Grid, Inc., Medway, MA; Airtel Africa, Nairobi, KENYA; Algorithmic Intuition Inc, Millbrae, CA; AMKB Cloud, Denver, CO; Andorra Telecom, Santa Coloma, ANDORRA; APIVERSITY, Madrid, SPAIN; Araxxe, Lyon, FRANCE; ARGELA Yazilim ve Bilisim Teknolojileri Sanayi ve Ticaret A.S., Istanbul, TURKEY; AsiaCell Communications LLC, Sulaymaniyah, IRAQ; Atilze Digital, Petaling Jaya, MALAYSIA; Axiros GmbH, Munich Hoehenkirchen, GERMANY; BaseN, Helsinki, FINLAND; Basildon Borough Council, Basildon, UNITED KINGDOM; Beyond Verbal, Tel Aviv, ISRAEL; Bharat Broadband Network Limited, Chhattarpur, INDIA; BOC, Dublin, IRELAND; BPS Service Consulting and Development SAS, Bogotá DC, COLOMBIA; BridgeWorx Ltd, Brighton, UNITED KINGDOM; Bring Labs, Lisbon, PORTUGAL; Bristol is Open, Bristol, UNITED KINGDOM; CableVision, SA, Buenos Aires, ARGENTINA; CallVU, Tel Aviv, ISRAEL; Carphone Warehouse Ltd, London, UNITED KINGDOM; Celebrus Technologies, Sunbury-on-Thames, UNITED KINGDOM; Cepheid, Sunnyvale, CA; ChikPea, San Francisco, CA; City of Belfast, Belfast, IRELAND; City of Miami, Miami, FL; City of Tampere, Tampere, FINLAND; City Strategies, LLC, New York, NY; Clarkson University Office of Information Technology, Potsdam, NY; Cloud Best Practices Network, London, UNITED KINGDOM; Cloudsoft Corporation, Edinburgh, SCOTLAND; Cmind Inc, Gatineau, CANADA; CODIX USA, Atlanta, GA; Cognitro Analytics, Toledo, Ohio; CommTel Network Solutions Pty Ltd., Keilor Park, AUSTRALIA; Comporium Communications, Rock Hill, SC; Comptel, Kuopio, NORWAY; Corporate Solutions Co., Riyadh, SAUDI ARABIA; Cosmote, Athens, GREECE; Datalynx AG, Basel-Stadt, SWITZERLAND; DataMi, Chelmsford, MA; Deutsche Telekom (UK) Ltd, Hatfield, UNITED KINGDOM; DonRiver, Toronto, CANADA; Elephant Talk Communications, New York, NY; Entel Chile PCS Telecomunicaciones SA, Santiago, CHILE; Enterprise Architecture as a Service (EAaaS) B.V., Eindhoven, NETHERLANDS; Envision&Company Ltd, London, UNITED KINGDOM; Ernst & Young CIS B.V., Moscow Branch, Moscow, RUSSIA; ESRI, Redlands, CA; Far EasTone Telecommunications Co., Ltd. (FarEasTone), Taipei, TAIWAN; Gaia Smart Cities Solutions Pvt Ltd, Parel, INDIA; Gn0man, Glen Ellyn, IL; Icertis, Inc., Bellevue, WA; IMImobile Ltd, London, UNITED KINGDOM; Indosat Ooredoo, Jakarta Pusat, INDONESIA; Inmarsat, St. John's, CANADA; Institute for Telecommunication Sciences, Boulder, CO; internet Solutions, Bryanston, SOUTH AFRICA; Invercloud, Cork, IRELAND; IPgallery, Raanana, ISRAEL; ItsOn Inc, Redwood City, CA; Join Wireless s.a., Luxembourg City, LUXEMBOURG; Kurrant, Parkview Square, SINGAPORE; Liberated Cloud Limited, Frome, UNITED KINGDOM; Linkem Spa, Roma, ITALY; Lisbon City Council, Lisbon, PORTUGAL; LocalSearch Web Pty Ltd, Robina, AUSTRALIA; Lucerne University of Applied Sciences and Arts, Horw, SWITZERLAND; Managed OutTasking Int'l, Tung Chung, HONG KONG-CHINA; Metasite Data Insights, Vilnius, LITHUANIA; Metaswitch Networks, Enfield, UNITED KINGDOM; Millicom Cable El Salvador, S.A. de C.V., Luxembourg City, LUXEMBOURG; MindShift Ltd, Bangalore, INDIA; N-able (Pvt) Ltd, Colombo, SRI LANKA; NeoNetpoint, Dublin, IRELAND; Neos d.o.o., Zagreb, CROATIA; NF CSB d.o.o., Ljubljana, SLOVENIA; NGOSS Lab of Lanzhou University, Lanzhou, PEOPLE'S REPUBLIC OF CHINA; Northpower Fibre, Whangarei, NEW ZEALAND; Ooredoo Algeria, Alger, ALGERIA; Ooredoo Group, Doha, QATAR; Ooredoo Kuwait, Sharq Area, KUWAIT; Ooredoo Maldives Pvt. Ltd., Hulhumale, MALDIVES; Ooredoo Myanmar, Jakarta, INDONESIA; Ooredoo Oman, Muscat, OMAN; Ooredoo Palestine, Al Bireh, PALESTINE; Ooredoo Qatar, Doha, QATAR; Ooredoo Tunisia, Tunis, TUNISIA; Open University—Milton Keynes, Milton Keynes, UNITED KINGDOM; ParkPlus System, Calgary, CANADA; Persistent Systems Ltd, Pune, INDIA; Plintron Global Technology Solutions Pvt Ltd., Chennai, INDIA; POSITIVE MOMENTUM LIMITED, London, ENGLAND; Prefeitura Municipal de Porto Alegre, Rio Grande do Sul, BRAZIL; ProArchCon GmbH, Meerbusch, GERMANY; PT RSM Indonesia Konsultan (RSM Indonesia), Jakarta, INDONESIA; Riverbed Technology, Inc., San Francisco, CA; RMC Consulting COM TR, Istanbul, TURKEY; Salzburg AG, Salzburg, AUSTRIA; Sarpal Consultancy, Chigwell, UNITED KINGDOM; Sauerborn Management Consulting GmbH, Ueken AG, SWITZERLAND; SevOne, Inc., Wilmington, DE; SKY Brasil, São Paulo, BRAZIL; SLA Digital, Belfast, UNITED KINGDOM; Smart Dublin, Dublin, IRELAND; SmartLiverpool Limited, Liverpool, UNITED KINGDOM; Smartpipe Solutions, London, UNITED KINGDOM; SmartTel Plus OÜ, Tallinn, ESTONIA; Soliel, Reston, VA; Sunnur Network, Santa Clara, CA; Swazi Mobile Limited, Mbabane, SWAZILAND; Swirlds, College Station, TX; Swisscom AG, Bern, SWITZERLAND; Symsoft AB, Stockholm, SWEDEN; Systems Mechanics, Whitstable, UNITED KINGDOM; TEAVARO, London, UNITED KINGDOM; Telecom Business Transformers Holding BV, Dordrecht, NETHERLANDS; Telecom Personal Argentina, Buenos Aires, ARGENTINA; Telekom Albania Sh.A., Tirana, ALBANIA; Telenor Bulgaria EAD, Sofia, BULGARIA; Telenor d.o.o. Serbia, Beograd, SERBIA; Telenor Hungary, Törökbálint, HUNGARY; Telenor Montenegro, Podgorica, MONTENEGRO; Tessarine, Paris, FRANCE; TMNS b.v., Den Haag, NETHERLANDS; Transtelecom JSC, Astana, KAZAKHSTAN; Trisotech, Montreal, CANADA; twim GmbH, Zug, SWITZERLAND; Two Degrees Mobile Ltd, Auckland, NEW ZEALAND; TXM Global Services S.A. de C.V., Saltillo, MEXICO; University of Erlangen-Nuremberg, Chair Information Systems II, Nuremburg, GERMANY; University of Southern California—Annenberg School for Communication & Journalism, Los Angeles, CA; University of Versailles Prism Lab, Versailles, FRANCE; Vecta Strategy, Dubai, UNITED ARAB EMIRATES; Vertical Telecoms Pty Ltd, Alexandria, AUSTRALIA; VMware, Inc., Palo Alto, CA; Vocus Communications, Melbourne, AUSTRALIA; Vodafone India Limited, Mumbai, INDIA; Xavient Digital LLC, Simi Valley, CA; ZDSL.com, Kuala Lumpur, MALAYSIA; ServiceMax from GE Digital, London, UNITED KINGDOM; and ZhongXing (Yinchuan) Intellectual Industry Co Ltd, Jinfeng District, PEOPLE'S REPUBLIC OF CHINA.

No other changes have been made in either the membership or planned activity of the group research project. Membership in this group research project remains open, and the Forum intends to file additional written notifications disclosing all changes in membership.

On October 21, 1988, the Forum filed its original notification pursuant to Section 6(a) of the Act. The Department of Justice published a notice in the Federal Register pursuant to Section 6(b) of the Act on December 8, 1988 (53 FR 49615).

The last notification was filed with the Department on January 11, 2018. A notice was published in the Federal Register pursuant to Section 6(b) of the Act on March 6, 2018 (83 FR 9545).

Suzanne Morris,
Chief, Premerger and Division Statistics Unit, Antitrust Division.

[FR Doc. 2019-01984 Filed 2-11-19; 8:45 am]

BILLING CODE 4410-11-P